DEPARTMENT OF TRANSPORTATION

Surface Transportation Board

[STB Finance Docket No. 34451]

Atlantic & Pacific Railroad and Transportation Company—Lease and Operation Exemption—Kansas & Oklahoma Railroad

Atlantic & Pacific Railroad and Transportation Company (APR), a noncarrier, has filed a verified notice of exemption under 49 CFR 1150.31 to lease, from Kansas & Oklahoma Railroad (KO),¹ and operate approximately 4 miles of rail line extending from the point of interchange with KO's line at approximately milepost 87.0 (at or near Chase, KS) to the point of interchange with KO's line at approximately milepost 91.0 (at or near Silica, KS).²

¹ KO is a subsidiary of Watco Companies, Inc.

² APR indicates that it is close to reaching an agreement with KO for APR's operation of the line.

In a related proceeding, KO is expected to file a notice of exemption in STB Finance Docket No. 34520, pursuant to 49 CFR 1180.2(d)(7), to acquire trackage rights over the subject line.

AP certifies that its projected revenues as a result of this transaction will not exceed those that would qualify it as a Class III rail carrier and states that such revenues will not exceed $5 million annually. The transaction was scheduled to be consummated on or after July 2, 2004.

If the verified notice contains false or misleading information, the exemption is void ab initio. Petitions to revoke the exemption under 49 U.S.C. 10502(d) may be filed at any time. The filing of a petition to revoke will not automatically stay the transaction.

An original and 10 copies of all pleadings, referring to STB Finance Docket No. 34451, must be filed with the Surface Transportation Board, 1925 K Street, NW., Washington, DC 20423-0001. In addition, a copy of each pleading must be served on Troy W. Garris, Weiner Brodsky Sidman Kider PC, 1300 19th St., NW., Fifth Floor, Washington, DC 20036-1609.

Board decisions and notices are available on our Web site at www.stb.dot.gov.

Decided: July 12, 2004.
By the Board, David M. Konschnik, Director, Office of Proceedings.
Vernon A. Williams,
Secretary.

[FR Doc. 04-16080 Filed 7-19-04; 8:45 am]

BILLING CODE 4915-01-P